DEPARTMENT OF COMMERCE

National Oceanic and Atmospheric Administration

RIN 0648-XB54

Mid-Atlantic Fishery Management Council (MAFMC); Meetings

AGENCY: National Marine Fisheries Service (NMFS), National Oceanic and Atmospheric Administration (NOAA), Commerce.

ACTION: Notice of public meeting.

SUMMARY: The Mid-Atlantic Fishery Management Council (Council), its Squid, Mackerel, and Butterfish Committee, its Research Set Aside (RSA) Committee, its Ecosystems Committee, and its Surfclam-Ocean Quahog/Tilefish Committee, will hold public meetings.

DATES: Monday, August 6, 2007 through Thursday, August 9, 2007. On Monday, August 6 the Squid, Mackerel, and Butterfish Committee will meet from 9 a.m. until 5:30 p.m. On Tuesday, August 7 the RSA Committee will meet from 8:30 a.m. until 10 a.m. There will also be a concurrent session of the Ecosystems Committee from 9 a.m. until 10 a.m. The Council will convene at 10 a.m. and remain in session until 5 p.m. On Wednesday, August 8 the Council will convene at 8 a.m. and remain in session until 5 p.m. On Thursday August 9 the Surfclam-Ocean Quahog/Tilefish Committee will meet from 8 a.m. until 9 a.m. The Council will then convene at 9 a.m. and remain in session until 3 p.m.

ADDRESSES: This meeting will be held at Danford's on the Sound, 25 East Broadway, Port Jefferson, NY 11777, telephone 631-928-5200.

Council Address: Mid-Atlantic Fishery Management Council, 300 S. New Street, Dover, DE 19904; telephone: 302-674-2331.

FOR FURTHER INFORMATION CONTACT: Daniel T. Furlong, Executive Director, Mid-Atlantic Fishery Management Council; telephone: 302-674-2331, ext. 19.

SUPPLEMENTARY INFORMATION: Agenda items by day for the Council(s committees and the Council itself are: Monday, August 6 - the Squid, Mackerel, and Butterfish Committee will review the outcome of the June Fishery Management Action (FMAT) meeting, adopt issues to be included in Amendment 10 and its Draft Environmental Impact Statement (EIS), and finalize alternatives for adopted issues to be included in Amendment 10. Tuesday, August 7 - the Research Set-Aside Committee will finalize the Council's research priorities for 2009 RSA request for proposals, and review policies for incorporation of research results into management advice. The Ecosystems Committee will receive a presentation by Derek Orner on Fisheries Ecosystem Planning for the Chesapeake Bay, and receive an update on the National Offshore Aquaculture Act of 2007. The Council will receive a presentation by NMFS Highly Migratory Species (HMS) staff on Amendment 2 to the Consolidated HMS Fishery Management Plan (FMP), its associated Draft EIS and proposed rule. The Council will review and, if warranted, comment on the proposed management measures for Atlantic sharks. The Council will receive a report from Dr. James Weinberg on the summary results of the 45th Stock Assessment Review Committee (SARC) and the Center for Independent Expertise's (CIE) opinion regarding Stock Assessment Workshop (SAW) reports on sea scallops and northern shrimp. The Council will then finalize scup management measures for 2008 (2009, 2010) in conjunction with the Atlantic States Marine Fisheries Commission's Scup Board by reviewing and adopting the scup Monitoring Committee's recommendations regarding harvest levels and associated commercial management measures.

The Council will review the status of Amendment 15 to the Summer Flounder, Scup, and Black Sea Bass FMP, review the comments received as a consequence of the scoping process for Amendment 15 and continue to develop a list of potential actions to be addressed in Amendment 15. Wednesday, August 8 - the Council will finalize the summer flounder management measures for 2008 (2009, 2010) in conjunction with the Atlantic States Marine Fisheries Commission's Summer Flounder Board by reviewing and adopting the summer flounder Monitoring Committee's recommendations regarding harvest levels and associated commercial management measures. The Council will finalize black sea bass management measures for 2008 (2009, 2010) in conjunction with the Atlantic States Marine Fisheries Commission's Black Sea Bass Board by reviewing and adopting the black sea bass Monitoring Committee's recommendations regarding harvest levels and associated commercial management measures. The Council will finalize bluefish management measures for 2008 in conjunction with the Atlantic States Marine Fisheries Commission's Bluefish Board by reviewing and adopting the bluefish Monitoring Committee's recommendations regarding 2008 harvest levels and associated management measures. Thursday, August 9 - the Surfclam-Ocean Quahog/Tilefish Committee will review Tilefish Amendment 1 management issues. The Council will adopt and approve Amendment 9 to the Squid, Mackerel, and Butterfish FMP for Secretarial Submission followed by its regular business session and any continuing and new business.

Although non-emergency issues not contained in this agenda may come before the Council for discussion, these issues may not be the subject of formal Council action during this meeting. Council action will be restricted to those issues specifically listed in this notice and any issues arising after publication of this notice that require emergency action under section 305(c) of the Magnuson-Stevens Act, provided the public has been notified of the Council(s intent to take final actions to address such emergencies.

Special Accommodations

This meeting is physically accessible to people with disabilities. Requests for sign language interpretation or other auxiliary aids should be directed to M. Jan Bryan (302-674-2331 ext: 18) at least five days prior to the meeting date.

Dated: July 16, 2007.
Tracey L. Thompson,
Acting Director, Office of Sustainable Fisheries, National Marine Fisheries Service.

[FR Doc. E7-13978 Filed 7-18-07; 8:45 am]

BILLING CODE 3510-22-S